DEPARTMENT OF THE INTERIOR

Fish and Wildlife Service

Receipt of Application for Endangered Species Permit

AGENCY: Fish and Wildlife Service, Interior.

ACTION: Notice of Receipt of Application for Endangered Species Permit.

SUMMARY: The following applicants have applied for permits to conduct certain activities with endangered species. This notice is provided pursuant to Section 10(c) of the Endangered Species Act of 1973, as amended (16 U.S.C. 1531 et seq.).

If you wish to comment, you may submit comments by any one of several methods. You may mail comments to the Service's Regional Office (see ADDRESSES). You may also comment via the internet to “kenneth_graham@fws.gov”. Please submit comments over the internet as an ASCII file avoiding the use of special characters and any form of encryption. Please also include your name and return address in your internet message. If you do not receive a confirmation from the Service that we have received your internet message, contact us directly at either telephone number listed below (see FURTHER INFORMATION). Finally, you may hand deliver comments to the Service office listed below (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not; however, consider anonymous comments. We will make all submissions from organizations or businesses, and from individuals identifying themselves as representatives or officials of organizations or businesses, available for public inspection in their entirety.

DATES: Written data or comments on these applications must be received, at the address given below, by May 31, 2000.

ADDRESSES: Documents and other information submitted with these applications are available for review, subject to the requirements of the Privacy Act and Freedom of Information Act, by any party who submits a written request for a copy of such documents to the following office within 30 days of the date of publication of this notice: U.S. Fish and Wildlife Service, 1875 Century Boulevard, Suite 200, Atlanta, Georgia 30345 (Attn: Ken Graham, Permits Biologist). Telephone: 404/679-7358; Facsimile: 404/679-7081.

FOR FURTHER INFORMATION CONTACT: Ken Graham, Telephone: 404/679-7358; Facsimile: 404/679-7081.

SUPPLEMENTARY INFORMATION:

Applicant: The Maryland Reptile Farm, Reisterstown, Maryland, TE023415-0

The applicant requests a permit to purchase a pair of captive bred Puerto Rican boas, Epicrates inornatus, from the Heritage Park Zoo in Prescott, AZ in order to establish a captive breeding program for the species.

Applicant: Forest Supervisor, Daniel Boone National Forest, Winchester, Kentucky, TE025674-0

The applicant requests authorization to take (survey for, harass, and in some instances to collect dead mussel shells, plants or plant parts for identification purposes only) four endangered mammal species, one endangered bird species, two endangered fish species, twenty endangered mussel species, and three endangered plant species all present or potentially present on the Daniel Boone National Forest. Any taking would occur during routine biological surveys and monitoring, for the purpose of enhancement of survival of the species.

Applicant: Phillip R Scheuerman, Johnson City, Tennessee, TE023821-0

The applicant requests authorization to take (capture, handle, identify, and release during biological surveys), the endangered Cumberland monkeyface, Quadrula intermedia, throughout the South Fork Holston River drainage in Tennessee, for the purpose of enhancement of survival of the species.

Applicant: Michael Catalini, of the CP Jungle, Cordova, Tennessee, TE022974-0

The applicant requests a permit to sell in interstate commerce, the endangered green pitcher-plant, Sarracenia oreophila, the endangered Alabama canebreak pitcher plant, Sarracenia rubra spp. alabamensis, and the endangered mountain sweet pitcher plant, Sarracenia rubra spp. jonesii, all which have been reared from propagated stock.

Applicant: Phil Sheridan, of the Meadowview Biological Research Station, Woodford, Virginia, TE022690-0

The applicant requests a permit to sell in interstate commerce, the endangered green pitcher-plant, Sarracenia oreophila, the endangered Alabama canebreak pitcher plant, Sarracenia rubra spp. alabamensis, and the endangered mountain sweet pitcher plant, Sarracenia rubra spp. jonesii, all which have been reared from propagated stock.

Applicant: Kathryn Stephenson Craven, Texas A&M University, College Station, Texas, TE025759-0

The applicant requests authorization to accept, possess, and conduct bioassays on legally obtained blood, tissue and egg yolk samples for five species of endangered or threatened sea turtles. Assays would be conducted for protein and steroid hormones, and samples would be utilized for DNA and yolk lipid extraction. Samples would be legally obtained from researchers at various universities and scientific institutions, and through a Texas A&M University cooperative agreement with the Cayman Turtle Farm. Authorization has also been requested for collection of a limited number of wild green sea turtle eggs at the Archie Carr National Wildlife Refuge in Florida for yolk sampling. The sampling and bioassay program would be conducted for the purpose of enhancement of survival of the species.

Applicant: Mr. Donald Robohm, Sea Chick Mississippi Inc., Escatawpa, Mississippi, TE025761-0

The applicant requests authorization to take (harass, conduct research utilizing non-lethal aversion techniques), the endangered brown pelican, Pelecanus occidentalis, at Sea Chick's facility in Jackson County, Mississippi, for the purpose of reducing fish predation at a commercial fish farming operation.

Dated: April 24, 2000.
H. Dale Hall,
Acting Regional Director.

[FR Doc. 00-10737 Filed 4-28-00; 8:45 am]

BILLING CODE 4310-55-P